DEPARTMENT OF AGRICULTURE

Agricultural Marketing Service

[Doc. No. AMS-FGIS-24-0019]

Grain Inspection Advisory Committee Meeting

AGENCY: Agricultural Marketing Service, USDA.

ACTION: Notice of public meeting.

SUMMARY: In accordance with the Federal Advisory Committee Act, as amended, the Agricultural Marketing Service (AMS), U.S. Department of Agriculture (USDA), is announcing a meeting of the Grain Inspection Advisory Committee (Committee). The Committee meets no less than once annually to advise the Secretary on the programs and services delivered by the AMS under the U.S. Grain Standards Act. Recommendations by the Committee help AMS meet the needs of its customers, who operate in a dynamic and changing marketplace.

DATES: An in-person meeting will be held on May 15, 2024, from 8:30 a.m. to 5:00 p.m. Central and on May 16, 2024, from 8:30 a.m. to 12:00 p.m. Central. The meeting will be broadcast virtually.

Written Comments: Any member of the public may file written comments with the Committee before or within 15 days after the date on which the meeting concludes. Comments should be submitted via email to Kendra.C.Kline@usda.gov. The Committee will consider comments submitted on or before 11:59 p.m. ET on May 10, 2024, prior to the meeting. Comments submitted after this date will be provided to the Committee, but the Committee may not have adequate time to consider those comments prior to the meeting. Comments submitted after the conclusion of the meeting will be posted on the AMS website.

Oral Comments: The Committee is providing the public an opportunity to present oral comments and will accommodate as many individuals and organizations as time permits. Persons or organizations wishing to make oral comments must pre-register by 11:59 p.m. ET, May 10, 2024, and may only register for one speaking slot.

Instructions for registering and participating in the meeting can be obtained by contacting the person listed in the FOR FURTHER INFORMATION CONTACT section before the deadline.

ADDRESSES: Meeting Location: The Committee meeting will take place at the AMS National Grain Center, 10383 N Ambassador Drive, Kansas City, Missouri 64153. The meeting will also be virtually accessible. Meeting information can be found at: https://www.ams.usda.gov/about-ams/facas-advisory-councils/giac.

FOR FURTHER INFORMATION CONTACT: Kendra Kline by phone at (202) 690-2410 or by email at Kendra.C.Kline@usda.gov.

SUPPLEMENTARY INFORMATION: The purpose of the Committee is to provide advice to AMS with respect to the implementation of the U.S. Grain Standards Act (7 U.S.C. 71-87k). Information about the Committee is available on the AMS website at https://www.ams.usda.gov/about-ams/facas-advisory-councils/giac.

The agenda for the upcoming meeting will include general program updates, and discussions about cyber security, Committee quorum, Committee nomination process, Committee handbook, standardizing protein moisture basis certification, grain inspection technology, establishing a technology subcommittee, and emerging grain export issues.

The meeting will be open to the public. Public participation will be limited to written statements and interested parties who have registered to present comments orally to the Committee.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication of program information or related accommodations should contact Kendra Kline at the telephone number or email listed above.

Dated: April 12, 2024.
Cikena Reid,
USDA Committee Management Officer.

[FR Doc. 2024-08137 Filed 4-16-24; 8:45 am]

BILLING CODE 3410-02-P